ENVIRONMENTAL PROTECTION AGENCY

40 CFR Part 271

[EPA-R04-RCRA-2020-0402; FRL-10013-63-Region 4]

South Carolina: Proposed Authorization of State Hazardous Waste Management Program Revisions

AGENCY: Environmental Protection Agency (EPA).

ACTION: Proposed rule.

SUMMARY: South Carolina has applied to the Environmental Protection Agency (EPA) for final authorization of changes to its hazardous waste program under the Resource Conservation and Recovery Act (RCRA), as amended. The EPA has reviewed South Carolina's application and has determined, subject to public comment, that these changes satisfy all requirements needed to qualify for final authorization. Therefore, we are proposing to authorize the State's changes. The EPA seeks public comment prior to taking final action.

DATES: Comments must be received on or before October 13, 2020.

ADDRESSES: Submit your comments, identified by Docket ID No. EPA-R04-RCRA-2020-0402, at https://www.regulations.gov. Follow the online instructions for submitting comments. Once submitted, comments cannot be edited or removed from www.regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets. The EPA encourages electronic submittals, but if you are unable to submit electronically or need other assistance, please contact Leah Davis, the contact listed in the FOR FURTHER INFORMATION CONTACT provision below. Please also contact Leah Davis if you need assistance in a language other than English or if you are a person with disabilities who needs a reasonable accommodation at no cost to you.

FOR FURTHER INFORMATION CONTACT: Leah Davis, RCRA Programs and Cleanup Branch, LCR Division, U.S. Environmental Protection Agency, Atlanta Federal Center, 61 Forsyth Street SW, Atlanta, Georgia 30303-8960; telephone number: (404) 562-8562; fax number: (404) 562-9964; email address: davis.leah@epa.gov.

SUPPLEMENTARY INFORMATION:

A. Why are revisions to state programs necessary?

States that have received final authorization from the EPA under RCRA section 3006(b), 42 U.S.C. 6926(b), must maintain a hazardous waste program that is equivalent to, consistent with, and no less stringent than the Federal program. As the Federal program changes, states must change their programs and ask the EPA to authorize the changes. Changes to state programs may be necessary when Federal or state statutory or regulatory authority is modified or when certain other changes occur. Most commonly, states must change their programs because of changes to the EPA's regulations in 40 Code of Federal Regulations (CFR) parts 124, 260 through 268, 270, 273, and 279.

New Federal requirements and prohibitions imposed by Federal regulations that the EPA promulgates pursuant to the Hazardous and Solid Waste Amendments of 1984 (HSWA) take effect in authorized states at the same time that they take effect in unauthorized states. Thus, the EPA will implement those requirements and prohibitions in South Carolina, including the issuance of new permits implementing those requirements, until the State is granted authorization to do so.

B. What decisions has the EPA made in this proposed rule?

South Carolina submitted a final complete program revision application, dated April 8, 2020, seeking authorization of changes to its hazardous waste program that correspond to certain Federal rules promulgated between July 1, 2003 and June 30, 2018 (including RCRA Clusters ¹ XIV through XXVI). The EPA concludes that South Carolina's application to revise its authorized program meets all of the statutory and regulatory requirements established under RCRA, as set forth in RCRA section 3006(b), 42 U.S.C. 6926(b), and 40 CFR part 271. Therefore, the EPA proposes to grant South Carolina final authorization to operate its hazardous waste program with the changes described in the authorization application, and as outlined below in Section F of this document.

¹ A “cluster” is a grouping of hazardous waste rules that the EPA promulgates from July 1st of one year to June 30th of the following year.

South Carolina has responsibility for permitting treatment, storage, and disposal facilities within its borders (except in Indian country, as defined at 18 U.S.C. 1151) and for carrying out the aspects of the RCRA program described in its program revision application, subject to the limitations of HSWA, as discussed above.

C. What is the effect of this proposed authorization decision?

If South Carolina is authorized for the changes described in South Carolina's authorization application, these changes will become part of the authorized State hazardous waste program, and will therefore be federally enforceable. South Carolina will continue to have primary enforcement authority and responsibility for its State hazardous waste program. The EPA would maintain its authorities under RCRA sections 3007, 3008, 3013, and 7003, including its authority to:

• Conduct inspections, and require monitoring, tests, analyses, and reports;

• Enforce RCRA requirements, including authorized State program requirements, and suspend or revoke permits; and

• Take enforcement actions regardless of whether the State has taken its own actions.

This action will not impose additional requirements on the regulated community because the regulations for which the EPA is proposing to authorize South Carolina are already effective under State law, and are not changed by today's proposed action.

D. What happens if the EPA receives comments that oppose this action?

The EPA will evaluate any comments received on this proposed action and will make a final decision on approval or disapproval of South Carolina's proposed authorization. Our decision will be published in the Federal Register. You may not have another opportunity to comment. If you want to comment on this authorization, you must do so at this time.

E. What has South Carolina previously been authorized for?

South Carolina initially received final authorization on November 8, 1985, effective November 22, 1985 (50 FR 46437) to implement the RCRA hazardous waste management program. The EPA granted authorization for changes to South Carolina's program on the following dates: September 8, 1988, effective November 7, 1988 (53 FR 34758); February 10, 1993, effective April 12, 1993 (58 FR 7865); November 29, 1994, effective January 30, 1995 (59 FR 60901); April 26, 1996, effective June 25, 1996 (61 FR 18502); October 4, 2000, effective December 4, 2000 (65 FR 59135); August 21, 2001, effective October 22, 2001 (66 FR 43798); September 2, 2003, effective November 3, 2003 (68 FR 52113); February 9, 2005, effective April 11, 2005 (70 FR 6765); and March 28, 2005, effective May 27, 2005 (70 FR 15594).

F. What changes is the EPA proposing with today's action?

South Carolina submitted a final complete program revision application, dated April 8, 2020, seeking authorization of changes to its hazardous waste management program in accordance with 40 CFR 271.21. This application included changes associated with Checklists ² 205 through 207, 209, 211 through 215, 217 through 218, 220, 222 through 223, 226 through 229, 231 through 234, and 236 through 239. The EPA proposes to determine, subject to receipt of written comments that oppose this action, that South Carolina's hazardous waste program revisions are equivalent to, consistent with, and no less stringent than the Federal program, and therefore satisfy all of the requirements necessary to qualify for final authorization. Therefore, the EPA is proposing to authorize South Carolina for the following program changes: ³

² A “checklist” is developed by the EPA for each Federal rule amending the RCRA regulations. The checklists document the changes made by each Federal rule and are presented and numbered in chronological order by date of promulgation.

³ Although submitted for authorization, the EPA is not including Checklists 212 or 217 in the authorization of South Carolina's program at this time.

Description of Federal requirement | Federal Register date and page | Analogous state authority ¹
Checklist 205, NESHAP: Surface Coating of Automobiles and Light-Duty Trucks | 69 FR 22601, 4/26/04 | R.61-79.264.1050(h) and R.61-79.265.1050(g).
Checklist 206 and 206.1, Nonwastewaters from Dyes and Pigments | 70 FR 9138, 2/24/05; 70 FR 35032, 6/16/05 | R.61-79.261.4(b)(15) and (b)(15)(i)-(v); R.61-79.261.32(a)-(d) and (d)(1)-(5); R.61-79.261 Appendices VII & VIII; R.61-79.268.20(a)-(c); R.61-79.268.40 Treatment Standards Table; R.61-79.268.48 Universal Treatment Standards Table.
Checklist 207 and 207.1, Uniform Hazardous Waste Manifest Rule ² | 70 FR 10776, 3/4/05; 70 FR 35034, 6/16/05 | R.61-79.260.10; R.61-79.261.7(b)(1)(iii)(A)-(B); R.61-79.262.20(a)(1)-(2); R.61-79.262.21(a)-(m) and (m)(1)-(2), except 262.21(f)(4); R.61-79.262.27(a)-(b); R.61-79.262.32(b) and (b)(1)-(5); R.61-79.262.33; R.61-79.263.20(a)(1)-(3) and (g)(1)-(4); R.61-79.263.21(b)(1)-(2) and (b)(2)(i)-(ii); R.61-79.264.70(a)-(b); R.61-79.264.71(a)(1)-(3), (b)(4), and (e); R.61-79.264.72(a)-(g); R.61-79.264.76(a)-(b) [(b) reserved]; R.61-79.265.70(a)-(b); R.61-79.265.71(a)(1)-(3), (b)(4), and (e); R.61-79.265.72(a)-(g); R.61-79.265.76(a)-(b) [(b) now reserved].
Checklist 209, Universal Waste Rule: Specific Provisions for Mercury Containing Equipment | 70 FR 45508, 8/5/05 | R.61-79.260.10; R.61-79.261.9(c); R.61-79.264.1(g)(11)(iii); R.61-79.265.1(c)(14)(iii); R.61-79.268.1(f)(3); R.61-79.270.1(c)(2)(viii)(C); R.61-79.273.1(a)(3); R.61-79.273.4(a)-(c) and (c)(1)-(2); R.61-79.273.9; R.61-79.273.13(c)(1)-(4) and (c)(4)(i)-(iii); R.61-79.273.14(d)(1)-(2); R.61-79.273.32(b)(4)-(5); R.61-79.273.33(c)(1)-(4) and (c)(4)(i)-(iii); R.61-79.273.34(d)(1)-(2).
Checklist 211, Revision of Wastewater Treatment Exemptions for Hazardous Waste Mixtures (“Headworks exemptions”) | 70 FR 57769, 10/4/05 | R.61-79.261.3(a)(2)(iv)(A)-(B), (D), and (F)-(G).
Checklist 213, Burden Reduction Initiative ³ | 71 FR 16862, 4/4/06 | R.61-79.260.31(b)(2)-(7); R.61-79.261.4(a)(9)(iii)(E) and (f)(9); R.61-79.264.15(b)(4); R.61-79.264.16(a)(4); R.61-79.264.52(b); R.61-79.264.56(i); R.61-79.264.73(b), (b)(1)-(2), (b)(6), (b)(8), (b)(10), and (b)(18)-(19); R.61-79.264.98(d) and (g)(2)-(3); R.61-79.264.99(f)-(g); R.61-79.264.100(g); R.61-79.264.113(e)(5); R.61-79.264.115; R.61-79.264.120; R.61-79.264.143(i); R.61-79.264.145(i); R.61-79.264.147(e); R.61-79.264.191(a) and (b)(5)(ii); R.61-79.264.192(a) and (b); R.61-79.264.193(a)(1)-(2) and (i)(2); R.61-79.264.195(b)-(d) and (f)-(h); R.61-79.264.196(f); R.61-79.264.251(c); R.61-79.264.280(b); R.61-79.264.314(a)-(e) and (e)(1)-(2); R.61-79.264.343(a)(2); R.61-79.264.347(d); R.61-79.264.554(c)(2); R.61-79.264.571(a)-(c); R.61-79.264.573(a)(4)(ii) and (g); R.61-79.264.574(a); R.61-79.264.1061(b)(1)-(2) and (d) [(d) removed]; R.61-79.264.1062(a); R.61-79.264.1100; R.61-79.264.1101(c)(2) and (c)(4); R.61-79.265.15(b)(4); R.61-79.265.16(a)(4); R.61-79.265.52(b); R.61-79.265.56(i); R.61-79.265.73(b), (b)(1)-(2), (b)(6)-(8), and (b)(15); R.61-79.265.90(d)(1) and (d)(3); R.61-79.265.93(d)(2) and (d)(5); R.61-79.265.113(e)(5); R.61-79.265.115; R.61-79.265.120; R.61-79.265.143(h); R.61-79.265.145(h); R.61-79.265.147(e); R.61-79.265.174; R.61-79.265.191(a) and (b)(5)(ii); R.61-79.265.192(a) and (b); R.61-R.79.265.193(a)(1)-(2) and (i)(2); R.61-79.265.195(a)-(c) and (e)-(g); R.61-79.265.196(f); R.61-79.265.221(a); R.61-79.265.224(a); R.61-79.265.259(a); R.61-79.265.280(e); R.61-79.265.301(a); R.61-79.265.303(a); R.61-79.265.314(a)-(f) and (f)(1)-(2); R.61-79.265.441(a)-(c); R.61-79.265.443(a)(4)(ii) and (g); R.61-79.265.444(a); R.61-79.265.1061(b)(1)-(2); R.61-79.265.1061(d); R.61-79.265.1062(a); R.61-79.265.1100; R.61-79.265.1101(c)(2) and (c)(4); R.61-79.266.102(e)(10); R.61-79.266.103(d) and (k); R.61-79.268.7(a)(1)(2) and (b)(6); R.61-79.268.9(a) and (d); R.61-79.270.14(a); R.61-79.270.16(a); R.61-79.270.26(c)(15); R.61-79.270.42, Appendix I, Item O.
Checklist 214, Corrections to Errors in the Code of Federal Regulations 4 5 | 71 FR 40254, 7/14/06 | R.61-79.260.10; R.61-79.260.22(a)(1) and (d)(1)(ii); R.61-79.260.40(a); R.61-79.260.41; R.61-79.261.2(c)(1)(i); R.61-79.261.3(a)(2)(i); R.61-79.261.4(a)(20)(v), (b)(6)(i)(B), (b)(6)(ii), (b)(6)(ii)(D), (b)(6)(ii)(F), (b)(9), (e)(2)(vi), and (e)(3)(i); R.61-79.261.6(a)(2)(i)-(iv) and (c)(2); R.61-79.261.21(a)(3)-(4), (a)(4)(i), (a)(4)(i)(A)-(D), and Notes 1-4; R.61-79.261.24(b); R.61-79.261.31(a) Table; R.61-79.261.32 Table (Entries K107 and K069); R.61-79.261.33(e), (e) Comment, (e) Table, (f), (f) Comment, and (f) Table; R.61-79.261 Appendices VII & VIII; R.61-79.262.70; R.61-79.262.82(a)(1)(ii); R.61-79.262.83(b)(1)(i) and (b)(2)(ii); R.61-79.262.84(e);R.61-79.264.1(g)(2); R.61-79.264.4; R.61-79.264.13(b)(7)(iii)(B); R.61-79.264.17(b); R.61-79.264.18(a)(2)(iii) and (b)(2)(iii); R.61-79.264.97(a)(1), (a)(1)(i), and (i)(5); R.61-79.264.98(a)(2) and (g)(4)(i); R.61-79.264.99(h)(2); R.61-79.264.101(d); R.61-79.264.111(c); R.61-79.264.112(b)(8); R.61-79.264.115; R.61-79.264.116; R.61-79.264.118(c); R.61-79.264.119(b)(1)(ii); R.61-79.264.140(d)(1); R.61-79.264.142(b)(2); R.61-79.264.143(b)(7), (b)(8), and (e)(5); R.61-79.264.145(d)(6) and (f)(11); R.61-79.264.147(h)(1); R.61-79.264.151(b), (f), (g), (h)(2), (i), (j), (k), (l), (m)(1), and (n)(1); R.61-79.264.175(b)(1); R.61-79.264.193(c)(4) Note, (d)(4), (e)(2)(ii)-(iii), (e)(2)(v)(A)-(B), (e)(3)(i)-(ii), (g)(1)(iii)-(iv), and (g)(2)(i)(A); R.61-79.264.221(c)(1)(i)(B), (c)(2)(ii), (e)(1), and (e)(2)(i)(B)-(C); R.61-79.264.223(b)(1); R.61-79.264.226(a)(2); R.61-79.264.251(a)(2)(i)(A); R.61-79.264.252(a)-(b); R.61-79.264.259(b); R.61-79.264.280(c)(7) and (d); R.61-79.264.283(a); R.61-79.264.301(c)(2) and (e)(2)(i)(B); R.61-79.264.302(a)-(b); R.61-79.264.304(b)(1); R.61-79.264.314(e)(2); R.61-79.264.317(a); R.61-79.264.344(b); R.61-79.264.552(e)(4)(iii), (e)(4)(iv)(F), and (e)(6)(iii)(E); R.61-79.264.553(e); R.61-79.264.554(a); R.61-79.264.555(e)(6); R.61-79.264.573(a)(1), (a)(4)(i), (a)(5), (b), and (m)(2)-(3); R.61-79.264.600; R.61-79.264.601(a), (b)(11), and (c)(4); R.61-79.264.1030(c); R.61-79.264.1033(f)(2)(vii)(B); R.61-79.264.1034(b)(2); R.61-79.264.1035(c)(4)(i)-(ii); R.61-79.264.1050(f); R.61-79.264.1058(c)(1); R.61-79.264.1064(c)(3); R.61-79.264.1080(a) and (c); R.61-79.264.1090(c); R.61-79.264.1101(b)(3)(iii), (c)(3), (c)(3)(i), and (d); R.61-79.264.1102(a); R.61-79.264 Appendix I, Tables 1 and 2; R.61-79.265.1(c)(6); R.61-79.265.12(a)(1); R.61-79.265.14(b)(1); R.61-79.265.16(b); R.61-79.265.19(c)(2); R.61-79.265.56(b); R.61-79.265.90(d); R.61-79.265.110(b)(4); R.61-79.265.111(c); R.61-79.265.112(b)(5) and (d)(4); R.61-79.265.113(b) and (e)(4); R.61-79.265.117(b); R.61-79.265.119(b)(1)(ii); R.61-79.265.140(b) and (b)(2); R.61-79.265.142(a); R.61-79.265.145(e)(11); R.61-79.265.147(a)(1)(i) and (b)(1)(i)-(ii); R.61-79.265.174; R.61-79.265.193(e)(2)(v)(A)-(B) and (i)(2); R.61-79.265.194(b)(1)-(2); R.61-79.265.197(b); R.61-79.265.221(a) and (d)(2)(i)(A)-(B); R.61-79.265.224(b)(1); R.61-79.265.228(a)(2)(iii)(D) and (b)(2); R.61-79.265.229(b)(2) and (b)(3); R.61-79.265.255(b); R.61-79.265.259(b)(1); R.61-79.265.280(a)(4); R.61-79.265.281(a)(1); R.61-79.265.301(a), (d)(1), and (d)(2)(i)(B); R.61-79.265.302(b); R.61-79.265.303(b)(1); R.61-79.265.312(a)(1); R.61-79.265.314(e)(1)(ii) and (f)(2); R.61-79.265.316(c)-(d); R.61-79.265.405(a)(1); R.61-79.265.441(c); R.61-79.265.443(a)(4)(i) and (b); R.61-79.265.445(b); R.61-79.265.1033(f)(2)(ii); R.61-79.265.1035(b)(2), (b)(2)(i), and (c)(4)(i); R.61-79.265.1063(b)(4)(ii); R.61-79.265.1080(a); R.61-79.265.1085(h)(3); R.61-79.1087(b); R.61-79.265.1090(f)(1); R.61-R.79.265.1100(d); R.61-79.265.1101(b)(3)(i)(B), (b)(3)(iii), (c)(3), and (d); R.61-79.265 Appendices I (Tables 1 and 2), V (Table), and VI; R.61-79.266.70(a); R.61-79.266.80(a) Table; R.61-79.266.100(b)(2)(iv), (d)(3)(i)(A), and (g); R.61-79.266.102(a)(2)(iv), (e)(3)(i)(E), (e)(5)(i)(C), (e)(6)(ii)(B)(2), and (e)(8)(iii); R.61-79.266.103(a)(4)(vii), (b)(2)(v)(B)(2), (b)(5)(ii)(A), (b)(6)(viii)(A), (c)(1)(i), (c)(1)(ii)(A)(2), (c)(1)(ix), (c)(1)(ix)(A), (c)(4)(iv)(C)(1), and (g)(1)(i); R.61-79.266.106(d)(1); R.61-79.266.109(a)(2)(ii) and (b); R.61-79.266 Subpart N (heading); R.61-79.266 Appendices III-VI, VIII, IX and XIII; R.61-79.268.2(g); R.61-79.268.4(a)(3); R.61-79.268.6(c)(5); R.61-79.268.7(a)(1), (a)(3)(ii), (a)(4) Table, (b)(3)(ii) Table, (b)(4)(ii), (c)(2), (d), (d)(1)-(3); R.61-79.268.14(b) and (c); R.61-79.268.40(g) and Treatment Standards Table; R.61-79.268.42 Table 1; R.61-79.268.44(c); R.61-79.268.45 Table 1; R.61-79.268.48 Universal Treatment Standards Table; R.61-79.268.49(d); R.61-79.268.50(c) and (g); R.61-79.268 Appendix VIII; R.61-79.270.1(a)(2) Table, (b), (c)(1)(iii), and (c)(3)(i); R.61-79.270.2; R.61-79.270.10(j); R.61-79.270.11(d)(1)-(2); R.61-79.270.13(k)(7); R.61-79.270.14(a), (b)(11)(ii)(B), (b)(19)(iii), and (b)(21); R.61-79.270.17(f); R.61-79.270.18(b) and (g); R.61-79.270.20(i)(2); R.61-79.270.26(c)(15); R.61-79.270.33(b); R.61-79.270.41(c); R.61-79.270.42(d)(2)(i); R.61-79.270.70(a); R.61-79.270.72(b)(2); R.61-79.273.9; R.61-79.273.13(b); R.61-79.273.14(a); R.61-79.273.34(a).
Checklist 215, Cathode Ray Tubes Rule | 71 FR 42928, 7/28/06 | R.61-79.260.10; R.61-79.261.4(a)(22)(i)-(iv); R.61-79.261.39 through 261.41(a)-(b).
Checklist 218, F019 Exemption for Wastewater Treatment Sludges from Auto Manufacturing Zinc Phosphating Processes | 73 FR 31756, 6/4/08 | R.61-79.261.31(a) Table (entry for F019); R.61-79.261.31(b)(4) and (b)(4)(i)-(ii).
Checklist 220, Academic Laboratories Generator Standards ³ | 73 FR 72912, 12/1/08 | R.61-79.262.10(l) and (l)(1)-(2); Addition of 262 Subpart K (R.61-79.262.200 through R.61-79.262.216).
Checklist 222, OECD Requirements; Export Shipments of Spent Lead-Acid Batteries | 75 FR 1236, 1/8/10 | R.61-79.262.10(d); R.61-79.262.80(a)-(b); R.61-79.262.81; R.61-79.262.82(a)-(e); R.61-79.262.83(a)-(e); R.61-79.262.84(a)-(e); R.61-79.263.10(d); R.61-79.264.12(a)(2); R.61-79.264.71(a)(3) and (d); R.61-79.265.12(a)(2); R.61-79.265.71(a)(3) and (d); R.61-79.266.80(a) Table Sections 6 and 7.
Checklist 223, Hazardous Waste Technical Corrections and Clarifications | 75 FR 12989, 3/18/10; 75 FR 31716, 6/4/10 | R.61-79.260.10; R.61-79.260 (Removal of Appendix); R.61-79.261.1(c)(10); R.61-79.261.2(c) Table 1; R.61-79.261.4(a)(17)(vi); R.61-79.261.6(a)(2), (a)(2)(ii), and (a)(3); R.61-79.261.7(b)(1) and (b)(3); R.61-79.261.23(a)(8); R.61-79.261.30(d); R.61-79.261.31(a) (listings for F037 and K107); R.61-79.261.32(a) Table; R.61-79.261.33(f); R.61-79.261 Appendix VII; R.61-79.262.23(f) and (f)(1)-(4); R.61-79.262.42(a)(1)-(2), (c), and (c)(1)-(2); R.61-79.264.52; R.61-79.264.56(d)(2); R.61-79.264.72(e)(6), (f)(1), and (f)(7)-(8); R.61-79.264.314(d); R.61-79.264.316(b); R.61-79.264.552(a)(3)(ii)-(iv) and (e)(4)(iv)(F); R.61-79.265.52; R.61-79.265.72(e)(6), (f)(1), and (f)(7)-(8); R.61-79.265.314(e), R.61-79.265.316(b); R.61-79.266.20(b); R.61-79.268.40 Treatment Standards Table; R.61-79.268.48 Universal Treatment Standards Table; R.61-79.270.4(a).
Checklist 226, Academic Laboratories Generator Standards Technical Corrections | 75 FR 79304, 12/20/10 | R.61-79.262.200; R.61-79.262.206(b)(3)(i); R.61-79.262.212(e)(1); R.61-79.262.214(a)(1) and (b)(1).
Checklist 227, Revision of the Land Disposal Treatment Standards for Carbamate Wastes | 76 FR 34147, 6/13/11 | R.61-79.268.40 Treatment Standards Table; R.61-79.268.48 Universal Treatment Standards Table.
Checklist 228, Hazardous Waste Technical Corrections and Clarifications Rule | 77 FR 22229, 4/13/12 | R.61-79.261.32(a) (entry for K107); R.61-79.266.20(b).
Checklist 229, Conditional Exclusions for Solvent Contaminated Wipes | 78 FR 46448, 7/31/13 | R.61-79.260.10; R.61-79.261.4(a)(26) and (a)(26)(i)-(vi); R.61-79.261.4(b)(18), (b)(18)(i)-(vi), and (b)(18)(vi)(A)-(B).
Checklist 231, Hazardous Waste Electronic Manifest Rule | 79 FR 7518, 2/7/2014 | R.61-79.260.2(a)-(c) and(c)(1)-(2); R.61-79.260.10; R.61-79.260.20(a)(3) and (a)(3)(i)-(ii); R.61-79.262.24(a)-(f); R.61-79.262.25(a)-(b); R.61-79.263.20(a)(1)-(7); R.61-79.263.25(a); R.61-79.264.71(a)(2), (a)(2)(i)-(vi), and (f)-(k); R.61-79.265.71(a)(2), (a)(2)(i)-(vi), and (f)-(k).
Checklist 232, Revisions to the Export Provisions of the Cathode Ray Tube (CRT) Rule ⁶ | 79 FR 36220, 6/26/14 | R.61-79.260.10; R.61-79.261.39(a)(5)(i)(F), (a)(5)(x)-(xi); R.61-79.261.41(a)-(b).
Checklist 233, Revisions to the Definition of Solid Waste, Response to Vacatur of Certain Provisions of the Definition of Solid Waste Checklist 233A, Checklist A—Changes affecting all non-waste determinations and variances | 80 FR 1694, 1/13/15; 83 FR 24664, 5/30/18 | R.61-79.260.31(c) and (c)(1)-(5); R.61-79.260.33(c)-(e); R.61-79.260.42(a)-(b).
Checklists 233B, Legitimacy-related provisions, including prohibition of sham recycling, definition of legitimacy, definition of contained ² |  | R.61-79.260.10; R.61-79.260.43(a)(1)-(3) and (b)-(c) [(c) reserved]; R.61-79.261.2 (b)(3)-(4) and (g).
Checklist 233C, Speculative Accumulation |  | R.61-79.261.1(c)(8).
Checklist 233D2, 2008 DSW exclusions and non-waste determinations, including revisions from 2015 DSW final rule and 2018 DSW final rule ² |  | R.61-79.260.10; R.61-79.260.30(b), (d)-(f) [(f) removed]; R.61-79.260.31(d) [removed]; R.61-79.260.33(a); R.61-79.260.34(a)-(c) and (c)(1)-(5), excluding (a)(1)-(3); R.61-79.261.1(c)(4); R.61-79.261.2(c)(3); R.61-79.261.4(a)(23), including (a)(23)(i)-(ii)(F); R.61-79.261.4(a)(24), including (a)(24)(i)-(vii); R.61-79.261.4(a)(25), including (25)(i)-(xii); Addition of 261 Subpart H (R.61-79.261.140 through R.61-79.261.151 including Appendices [R.61-79.261.144 through R.61-79.261.146 reserved]) Addition and Reservation of Subparts K-L; Addition of Subpart M (R.61-79.261.400; R.61-79.261.410; R.61-79.261.411; R.61-79.261.420).
Checklist 233E, Remanufacturing exclusion ² |  | R.61-79.260.10; R.61-79.261.2(c)(3); R.61-79.261.4(a)(27), including (a)(27)(i)-(vi)(F); Addition of 261 Subpart I (R.61-79.261.170; R.61-79.261.171; R.61-79.261.172; R.61-79.261.173; R.61-79.261.175; R.61-79.261.176; R.61-79.261.177; R.61-79.261.179); Addition of 261 Subpart J (R.61-79.261.190 through R61-79.261.200 [261.192, 261.193(e), 261.195 reserved]; Addition of 261 Subpart AA (R.61-79.261.1030 through R.61-79.261.1049 [261.1036 through 261.1049 reserved]); Addition of 261 Subpart BB (R.61-79.261.1050 through R.61-79.261.1079 [261.1065 through 261.1079 reserved]); Addition of 261 Subpart CC (R.61-79.261.1080 through R.61-79.261.1090 including Appendices [261.1080(b), 261.1083(b), 261.1086(b)(2), 261.1089(c), 261.1089(f)(2), 261.1085, and 261.1090 reserved]).
Checklist 234, Response to Vacaturs of the Comparable Fuels Rule and the Gasification Rule | 80 FR 18777, 4/8/15 | R.61-79.260.10; R.61-79.261.4(a)(12)(i) and (a)(16) [(a)(16) reserved]; R.61-79.261.38 [reserved].
Checklist 236, Imports and Exports of Hazardous Waste ² | 81 FR 85696, 11/28/16; 82 FR 41015, 8/29/17; 83 FR 38262, 8/6/2018 | R.61-79.260.10; R.61-79.261.4(d)(1), (d)(4), (e)(1), and (e)(4); R.61-79.261.6(a)(3)(i) and (a)(5); R.61-79.261.39(a)(5)(ii), (a)(5)(v)-(vi), (a)(5)(ix), and (a)(5)(xi); R.61-79.262.10(d); R.61-79.262.18(g); R.61-79.262.41(c); Removal of 262 Subpart E (R.61-79.262.50 through R.61-79.262.58); Removal of 262 Subpart F (R.61-79.262.60); R.61-79.262.80(a)-(b); R.61-79.262.81; R.61-79.262.82(a)-(e) and (e)(1)-(2); R.61-79.262.83(a)-(i) and (i)(1)-(3); R.61-79.262.84(a)-(h) and (h)(1)-(4); R.61-79.262.85 [reserved]; R.61-79.262.86 [reserved]; R.61-79.262.87 [reserved]; R.61-79.262.88 [reserved]; R.61-79.262.89 [reserved]; R.61-79.263.10(d); R.61-79.263.20(a)(2), (c), (e)(2), (f)(2), (g)(1)-(4), and (g)(4)(i)-(ii); R.61-79.264.12(a), (a)(1)-(4), and (a)(4)(i)-(ii); R.61-79.264.71(a)(3), (a)(3)(i)-(ii), and (d); R.61-79.265.12(a), (a)(1)-(4), and (a)(4)(i)-(ii); R.61-79.265.71(a)(3), (a)(3)(i)-(ii), and (d); R.61-79.266.70(b) and (b)(1)-(3); R.61-79.266.80(a) Table Sections 6 through 10; R.61-79.273.20; R.61-79.273.39(a)-(b); R.61-79.273.40; R.61-79.273.56; R.61-79.273.62(a); R.61-79.273.70; R.61-79.273.70(a)-(c).
Checklist 237, Hazardous Waste Generator Improvements Rule 2 3 7 | 81 FR 85732, 11/28/16 | R.61-79.260.3; R.61-79.260.10; R.61-79.260.11(a)(10); R.61-79.261.1(a)(1) and (c)(6); R.61-79.261.4(a)(7); R.61-79.261.5 [reserved]; R.61-79.261.6(c)(2)(iv); R.61-79.261.33(e) and (f); R.61-79.262.1; R.61-79.262.10(a), (a)(1)-(3), (b), (d), (g)(1)-(2), (j) [reserved], (l), and (l)(1)-(2); R.61-79.262.11(a)-(g); R.61-79.262.13 through R.61-79.262.18(a)-(e); R.61-79.262.32(b)-(d); R.61-79.262.34 [reserved]; R.61-79.262.35; R.61-79.262.40(c); R.61-79.262.41(a)-(c), except 262.41(b); R.61-79.262.43; R.61-79.262.44; R.61-79.262.200; 61-79.262.201(a)-(b); R.61-79.262.202(a)-(b); R.61-79.262.203(a) and (b)(2); R.61-79.262.204(a); R.61-79.262.206(b)(3)(ii); R.61-79.262.207(d)(2); R.61-79.262.208(a)(1)-(2), (d)(2), and (d)(2)(i)-(ii); R.61-79.262.209(b); R.61-79.262.210(a), (b)(3), and (d)(2); R.61-79.262.211(c), (d), and (e)(3); R.61-79.262.212(d); R.61-79.262.213(a)(1)-(3) and (b)(2); R.61-79.262.214(b)(5); R.61-79.262.216(a)-(b); Addition of Subpart L (R.61-79.262.230 through R.61-79.262.233); Addition of Subpart M (R.61-79.262.250 through R.61-79.262.256 and R.61-79.262.260 through R.61-79.262.265); R.61-79.263.12(a)-(b) and (b)(1)-(2); R.61-79.264.1(g)(1) and (g)(3); R.61-79.264.15(b)(4) and removal of comment; R.61-79.264.71(c) and removal of comment; R.61-79.264.75; R.61-79.264.170; R.61-79.264.174 and removal of comment; R.61-79.264.191(a); R.61-79.264.195(e) [reserved]; R.61-79.264.1030(b)(2); R.61-79.264.1050(b)(3); R.61-79.264.1101(c)(4); R.61-79.265.1(c)(5) and (c)(7); R.61-79.265.15(b)(4) and (b)(5) (removed); R.61-79.265.71(c) and removal of comment); R.61-79.265.75; R.61-79.265.174 and removal of comment; R.61-79.265.195(d) [reserved]; R.61-79.265.201 [reserved]; R.61-79.265.1030(b)(2)-(3); R.61-79.265.1050; R.61-79.265.1101(c)(4); R.61-79.266.80(a) Table Sections 6 through 10; R.61-79.266.255(a); R.61-79.268.1(e)(1); R.61-79.268.7(a)(5); R.61-79.268.50(a)(1), (a)(2)(i), and (a)(2)(i)(A)-(D); R.61-79.270.1(a)(3), (c)(2), (c)(2)(i), and (c)(2)(iii); R.61-79.270.42(l) and Entries under O.1. in Appendix [reserved]; R.61-79.273.8(a)(2); R.61-79.273.81(b).
Checklist 238, Confidentiality Determinations for Hazardous Waste Export and Import Documents ⁸ | 82 FR 60894, 12/26/17 | R.61-79.260.2(b) and (d)(1)-(2); R.61-79.261.39(a)(5)(iv); R.61-79.262.83(b)(5) and (f)(9); R.61-79.262.84(b)(4) and (f)(8).
Checklist 239, Hazardous Waste Electronic Manifest User Fee Rule | 83 FR 420, 1/3/18 | R. 61-79.260.4(a) and (a)(1)-(4); R.61-79.260.5(a)-(b) and (b)(1)-(2); R.61-79.262.20(a)(1)-(2); R.61-79.262.21(f)(5)-(8); R.61-79.262.24(c), (c)(1), (c)(2) [reserved], (e), (g) [reserved], and (h); R.61-79.262 (removal of Appendix); R.61-79.263.20(a)(8) [reserved] and (9); R.61-79.263.21(a)-(c) and (c)(1)-(2); R.61-79.264.71(a)(2), (a)(2)(i)-(vi), (j), (j)(1)-(2), (l), and (l)(1)-(5); R.61-79.264.1086(c)(4)(i); R.61-79.264.1086(d)(4)(i); Addition of 264 Subpart FF (R.61-79.264.1300 and 1310-1316); R.61-79.265.71(a)(2), (a)(2)(i)-(vi), (j), (j)(1)-(2), (l), and (l)(1)-(5); R.61-79.265.1087(c)(4)(i) and (d)(4)(i); Addition of 265 Subpart FF (R.61-79.265.1300 and 1310-1316).
Notes
¹ The South Carolina regulatory citations are from the South Carolina Hazardous Waste Management Regulations, S.C. Code Ann. Regs. 61-79.260-273, effective November 22, 2019, as amended June 26, 2020.
² The following provisions have been excluded from this authorization because South Carolina does not have an equivalent corresponding provision or an error in the provision was deemed substantive: R.61-79.262.21(f)(4) (Checklist 207); R.61-79.261.2(a)(2)(ii) (Checklist 233B); R. 261.2(c)(4), Table 1 (Checklists 233D2 and 233E); R.61-79.270.42, Entries 9 and 10 in Section A (Appendix I) (Checklist 233D2); R.61-79.261.420(g) (Checklist 237); R.61-79.262.14(a)(5)(iii) (Checklist 237); R.61-79.262.41(b) (Checklist 237) (although South Carolina has a 262.41(b), it does not address the substantive provisions of the Federal 262.41(b).
³ South Carolina does not seek authorization for any provisions pertaining to the Performance Track Program (Checklists 213, 220, 237).
⁴ Corrections to R.61-107.279 are excluded from this authorization because South Carolina has not been previously authorized for R.61-107.279.
⁵ There are several errors contained in South Carolina's table at 266.80(a), specifically in Sections 2, 3, and 4. South Carolina will be correcting these errors in a subsequent rulemaking.
⁶ The address for notification to EPA in Section 261.42(a)(2) has since been updated by the August 6, 2018 final rule at 83 FR 38262.
⁷ R.61-79.260.11(a)(10) is equivalent to 40 CFR 260.11(d)(1).
⁸ SC incorrectly cites R.61-79.260.2(d)(1) as R.61-79.260.2(d)1(1).

G. Where are the revised state rules different from the Federal rules?

When revised state rules differ from the Federal rules in the RCRA state authorization process, the EPA determines whether the state rules are equivalent to, more stringent than, or broader in scope than the Federal program. Pursuant to RCRA section 3009, 42 U.S.C. 6929, state programs may contain requirements that are more stringent than the Federal regulations. Such more stringent requirements can be federally authorized and, once authorized, become federally enforceable.

The following South Carolina provisions are more stringent than the Federal program:

• South Carolina is more stringent than the Federal program at R.61-79.261.6(c)(2)(iv), R.61-79.262.41(a)-(b), R.61-79.264.75, and R.61-79.265.75 by requiring quarterly reporting rather than biennial reporting.

• South Carolina is more stringent than the Federal program at R.61-79.262.13(a)(1)(i)(B), R.61-79.262.13(a)(1)(ii)(B), R.61-79.262.13(a)(1)(iii)(B), and R.61-79.262.12 by requiring generators (large quantity, small quantity, and very small quantity) to notify the State when any new hazardous waste is produced.

• South Carolina is more stringent than the Federal program at R.61-79.262.16(b)(2)(iii)(C) by prohibiting generators from stacking hazardous waste containers more than two high without written approval from the Department.

Although the statute does not prevent states from adopting regulations that are broader in scope than the Federal program, states cannot receive authorization for such regulations, and they are not federally enforceable. South Carolina is broader in scope than the Federal program at R.61-79.262.33 by requiring that a generator comply with placarding requirements in accordance with the applicable South Carolina Public Service Commission regulations, in addition to the placarding requirements required by the U.S. Department of Transportation regulations in 49 CFR part 172. South Carolina is also broader in scope than the Federal program by not adopting the conditional exclusion for carbon dioxide streams in geologic sequestration activities (Checklist 230) at 40 CFR 261.4(h). South Carolina's continued regulation of these waste streams is broader in scope than the Federal program.

There are certain regulatory provisions for which the states cannot be authorized to administer or implement. These provisions include the requirements associated with the Federal manifest registry system (Section 262.21) contained within the Uniform Hazardous Waste Manifest Rule (Checklist 207), as well as the operation of the national E-Manifest system and the user fee provisions associated with the operation of such system contained in the Hazardous Waste Electronic Manifest Rule (Checklist 231) and the Hazardous Waste Electronic Manifest User Fee Rule (Checklist 239). Although South Carolina has adopted these regulations to maintain its equivalency with the Federal program, it has appropriately maintained the Federal references in order to preserve the EPA's authority to implement these non-delegable provisions.

Because of the Federal government's special role in matters of foreign policy, the EPA does not authorize states to administer the Federal import/export functions associated with the Cathode Ray Tubes Rule (Checklist 215), the OECD Requirements for Export Shipments of Spent Lead-Acid Batteries (Checklist 222), the Revisions to the Export Provisions of the Cathode Ray Tube Rule (Checklist 232), the Imports and Exports of Hazardous Waste Rule (Checklist 236), and the Confidentiality Determinations for Hazardous Waste Export and Import Documents Rule (Checklist 238). Although South Carolina has adopted these regulations to maintain its equivalency with the Federal program, it has appropriately maintained the Federal references in order to preserve the EPA's authority to implement these provisions.

H. Who handles permits after the final authorization takes effect?

When final authorization takes effect, South Carolina will issue permits for all the provisions for which it is authorized and will administer the permits it issues. The EPA will continue to administer any RCRA hazardous waste permits or portions of permits that the EPA issued prior to the effective date of authorization until they expire or are terminated. The EPA will not issue any new permits or new portions of permits for the provisions listed in the table above after the effective date of the final authorization. The EPA will continue implementing and issue permits for HSWA requirements for which South Carolina is not yet authorized. The EPA has the authority to enforce State-issued permits after the State is authorized.

I. How does today's proposed action affect Indian country in South Carolina?

South Carolina is not authorized to carry out its hazardous waste program in Indian country within the State, which includes the Indian lands associated with the Catawba Indian Nation. Therefore, this proposed action has no effect on Indian country. The EPA retains jurisdiction over Indian country and will continue to implement and administer the RCRA program on these lands.

J. What is codification and will the EPA codify South Carolina's hazardous waste program as proposed in this rule?

Codification is the process of placing citations and references to the State's statutes and regulations that comprise the State's authorized hazardous waste program into the Code of Federal Regulations. The EPA does this by adding those citations and references to the authorized State rules in 40 CFR part 272. The EPA is not proposing to codify the authorization of South Carolina's changes at this time. However, the EPA reserves the ability to amend 40 CFR part 272, subpart PP, for the authorization of South Carolina's program changes at a later date.

K. Statutory and Executive Order Reviews

The Office of Management and Budget (OMB) has exempted this action from the requirements of Executive Order 12866 (58 FR 51735, October 4, 1993) and 13563 (76 FR 3821, January 21, 2011). This action proposes to authorize State requirements for the purpose of RCRA section 3006 and imposes no additional requirements beyond those imposed by State law. Therefore, this action is not subject to review by OMB. This action is not an Executive Order 13771 (82 FR 9339, February 3, 2017) regulatory action because actions such as today's proposed authorization of South Carolina's revised hazardous waste program under RCRA are exempted under Executive Order 12866. Accordingly, I certify that this action will not have a significant economic impact on a substantial number of small entities under the Regulatory Flexibility Act (5 U.S.C. 601 et seq.). Because this action proposes to authorize pre-existing requirements under State law and does not impose any additional enforceable duty beyond that required by State law, it does not contain any unfunded mandate or significantly or uniquely affect small governments, as described in the Unfunded Mandates Reform Act of 1995 (2 U.S.C. 1531-1538). For the same reason, this action also does not significantly or uniquely affect the communities of tribal governments, as specified by Executive Order 13175 (65 FR 67249, November 9, 2000). This action will not have substantial direct effects on the states, on the relationship between the national government and the states, or on the distribution of power and responsibilities among the various levels of government, as specified in Executive Order 13132 (64 FR 43255, August 10, 1999), because it merely proposes to authorize State requirements as part of the State RCRA hazardous waste program without altering the relationship or the distribution of power and responsibilities established by RCRA. This action also is not subject to Executive Order 13045 (62 FR 19885, April 23, 1997) because it is not economically significant and it does not make decisions based on environmental health or safety risks. This action is not subject to Executive Order 13211, “Actions Concerning Regulations That Significantly Affect Energy Supply, Distribution, or Use” (66 FR 28355, May 22, 2001), because it is not a significant regulatory action under Executive Order 12866.

Under RCRA section 3006(b), the EPA grants a state's application for authorization as long as the state meets the criteria required by RCRA. It would thus be inconsistent with applicable law for the EPA, when it reviews a state authorization application, to require the use of any particular voluntary consensus standard in place of another standard that otherwise satisfies the requirements of RCRA. Thus, the requirements of section 12(d) of the National Technology Transfer and Advancement Act of 1995 (15 U.S.C. 272 note) do not apply. As required by section 3 of Executive Order 12988 (61 FR 4729, February 7, 1996), in proposing this rule, the EPA has taken the necessary steps to eliminate drafting errors and ambiguity, minimize potential litigation, and provide a clear legal standard for affected conduct. The EPA has complied with Executive Order 12630 (53 FR 8859, March 15, 1988) by examining the takings implications of this action in accordance with the “Attorney General's Supplemental Guidelines for the Evaluation of Risk and Avoidance of Unanticipated Takings” issued under the executive order. This action does not impose an information collection burden under the provisions of the Paperwork Reduction Act of 1995 (44 U.S.C. 3501 et seq.). “Burden” is defined at 5 CFR 1320.3(b). Executive Order 12898 (59 FR 7629, February 16, 1994) establishes Federal executive policy on environmental justice. Its main provision directs Federal agencies, to the greatest extent practicable and permitted by law, to make environmental justice part of their mission by identifying and addressing, as appropriate, disproportionately high and adverse human health or environmental effects of their programs, policies, and activities on minority populations and low-income populations in the United States. Because this action proposes authorization of pre-existing State rules which are at least equivalent to, and no less stringent than existing Federal requirements, and imposes no additional requirements beyond those imposed by State law, and there are no anticipated significant adverse human health or environmental effects, this proposed rule is not subject to Executive Order 12898.

List of Subjects in 40 CFR Part 271

Environmental protection, Administrative practice and procedure, Confidential business information, Hazardous waste, Hazardous waste transportation, Indian lands, Intergovernmental relations, Penalties, Reporting and recordkeeping requirements.

Authority: This action is issued under the authority of sections 2002(a), 3006, and 7004(b) of the Solid Waste Disposal Act as amended, 42 U.S.C. 6912(a), 6926, and 6974(b).

Dated: August 14, 2020.
Mary Walker,
Regional Administrator, Region 4.

[FR Doc. 2020-18311 Filed 9-10-20; 8:45 am]

BILLING CODE 6560-50-P